DEPARTMENT OF COMMERCE

International Trade Administration

[A-570-947]

Certain Steel Grating From the People's Republic of China: Final Results of the Expedited Sunset Review of the Antidumping Duty Order

AGENCY: Enforcement and Compliance, International Trade Administration, Department of Commerce.

SUMMARY: As a result of this sunset review, the Department of Commerce (“the Department”) finds that revocation of the antidumping duty order on certain steel grating (“steel grating”) from the People's Republic of China (“PRC”) would likely lead to continuation or recurrence of dumping, at the levels indicated in the “Final Results of Sunset Review” section of this notice.

DATES: Effective Date: October 5, 2015.

FOR FURTHER INFORMATION CONTACT: Erin Kearney, AD/CVD Operations, Office IV, Enforcement and Compliance, International Trade Administration, U.S. Department of Commerce, 14th Street and Constitution Avenue NW., Washington, DC 20230; telephone: (202) 482-0167.

SUPPLEMENTARY INFORMATION:

Background

On July 23, 2010, the Department published the antidumping duty order on steel grating from the PRC.¹ On June 1, 2015, the Department initiated a sunset review of the antidumping duty order on steel grating from the PRC pursuant to section 751(c) of the Tariff Act of 1930, as amended (“the Act”).² On June 15, 2015, the Department received a timely notice of intent to participate in the sunset review from the Metal Grating Coalition, consisting of individual members Alabama Metal Industries Corporation; Fisher & Ludlow, Inc.; Harsco Industrial IKG; Interstate Gratings, LLC; and Ohio Gratings, Inc., domestic interested parties, pursuant to 19 CFR 351.218(d)(1)(i). On July 1, 2015, the Metal Grating Coalition filed a timely substantive response with the Department pursuant to 19 CFR 351.218(d)(3)(i). The Department did not receive a substantive response from any respondent interested party. As a result, pursuant to section 751(c)(3)(B) of the Act and 19 CFR 351.218(e)(1)(ii)(C)(2), the Department conducted an expedited sunset review of the Order.

¹ See Certain Steel Grating from the People's Republic of China: Antidumping Duty Order, 75 FR 43143 (July 23, 2010) (“Order”).

² See Initiation of Five-year (“Sunset”) Review, 80 FR 31012 (June 1, 2015).

Scope of the Order

The merchandise subject to this CVD Order is steel grating. Imports of merchandise included within the scope of this order are currently classifiable under subheading 7308.90.7000 of the Harmonized Tariff Schedule of the United States. The Decision Memorandum, which is hereby adopted by this notice, provides a full description of the scope of the order.³

³ For a full description of the scope of the order, including exclusions, see the “Issues and Decision Memorandum for the Expedited Sunset Review of the Antidumping Duty Order on Certain Steel Grating from the People's Republic of China” from Christian Marsh, Deputy Assistant Secretary for Antidumping and Countervailing Duty Operations, to Paul Piquado, Assistant Secretary for Enforcement and Compliance, dated concurrently with, and hereby adopted by, this notice (“Decision Memorandum”).

The Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Decision Memorandum can be accessed at http://enforcement.trade.gov/frn/. The signed Decision Memorandum and the electronic version of the Decision Memorandum are identical in content.

Analysis of Comments Received

All issues raised in this sunset review are addressed in the Decision Memorandum. The issues discussed in the Decision Memorandum include the likelihood of continuation or recurrence of dumping and the magnitude of the margins likely to prevail if the Order were to be revoked.

Final Results of Sunset Review

Pursuant to Section 752(c)(3) of the Act, the Department determines that revocation of the Order would likely lead to continuation or recurrence of dumping at weighted-average dumping margins up to 145.18 percent.

Notification Regarding Administrative Protective Orders

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752, and 777(i)(1) of the Act and 19 CFR 351.218.

Paul Piquado,
Assistant Secretary for Enforcement and Compliance.

[FR Doc. 2015-25301 Filed 10-2-15; 8:45 am]

BILLING CODE 3510-DS-P